DEPARTMENT OF TRANSPORTATION

Federal Aviation Administration

14 CFR Part 121

[Docket No. FAA-2002-6717; Amendment No. 121-348]

RIN 2120-AI03

Extended Operations (ETOPS) of Multi-Engine Airplanes; Technical Amendment

AGENCY: Federal Aviation Administration (FAA), DOT.

ACTION: Final rule; Technical amendment.

SUMMARY: The Federal Aviation Administration is making a minor amendment to a previously published final rule. That final rule applied to air carrier, commuter, and on-demand turbine powered multi-engine airplanes used in passenger-carrying, and some all-cargo, extended-range operations. This technical amendment corrects an incorrect citation reference.

DATES: Effective March 15, 2010.

FOR FURTHER INFORMATION CONTACT: Zara Willis, Office of Rulemaking, Federal Aviation Administration, 800 Independence Ave., SW., Washington, DC 20591; telephone (202) 493-4405 facsimile (202) 267-5075; e-mail Zara.Willis@faa.gov.

SUPPLEMENTARY INFORMATION:

Background

The final rule, Extended Operations (ETOPS) of Multi-engine Airplanes, applied to air carrier (part 121), commuter, and on-demand (part 135) turbine powered multi-engine airplanes used in passenger-carrying, extended range operations (January 16, 2007; 72 FR 1808). All-cargo operations in airplanes with more than two engines of both part 121 and part 135 were exempted from the majority of this rule. The rule established regulations governing the design, operation and maintenance of certain airplanes operated on flights that fly long distances from an adequate airport. It codified current FAA policy, industry best practices and recommendations, as well as international standards designed to ensure long-range flights will continue to operate safely. To ease the transition for current operators, the rule included delayed compliance dates for certain ETOPS requirements.

In the final rule § 121.646(b)(1)(i)(B) incorrectly references § 121.133. The citation should read § 121.333.

Technical Amendment

This technical amendment merely corrects an incorrect cross-reference in § 121.646. No other changes are made to the section.

Justification for Immediate Adoption

Because this action corrects a cross-reference, the FAA finds that notice and public comment under 5 U.S.C. 553(b) is unnecessary. For the same reason, the FAA finds that good cause exists under 5 U.S.C. 553(d) for making this rule effective upon publication.

List of Subjects in 14 CFR Part 121

Air carriers, Aircraft, Airmen, Alcohol abuse, Aviation safety, Charter flights, Drug abuse, Drug testing, Reporting and recordkeeping requirements, Safety, and Transportation.

The Amendment

In consideration of the forgoing, the Federal Aviation Administration amends 14 CFR part 121 as follows:

PART 121—OPERATING REQUIREMENTS: DOMESTIC, FLAG, AND SUPPLEMENTAL OPERATIONS

§ 121.646 [Amended]

1. Amend § 121.646 (b)(1)(i)(B) by removing the citation “§ 121.133” and adding in its place the citation “§ 121.333.”

Issued in Washington, DC, on March 10, 2010.
Pamela Hamilton-Powell,
Director, Office of Rulemaking.

[FR Doc. 2010-5589 Filed 3-12-10; 8:45 am]

BILLING CODE 4910-13-P